DEPARTMENT OF COMMERCE

National Oceanic and Atmospheric Administration

[RTID 0648-XD902]

Fisheries of the Exclusive Economic Zone Off Alaska; Cook Inlet Salmon; Public Outreach Meetings

AGENCY: National Marine Fisheries Service (NMFS), National Oceanic and Atmospheric Administration (NOAA), Commerce.

ACTION: Meeting notice.

SUMMARY: NMFS will hold two in person public meetings and one webinar regarding Amendment 16 to the Fishery Management Plan for the Salmon Fisheries in the Exclusive Economic Zone (EEZ) Off Alaska (Salmon FMP). Amendment 16 establishes Federal management for the salmon fishery in the Federal (i.e., EEZ) waters of upper Cook Inlet.

DATES: The first meeting will take place on May 15, 2024, in Kenai, Alaska, starting at 5:30 p.m. AKDT and concluding no later than 7:30 p.m. AKDT. The second public meeting will take place on May 16, 2024, in Homer, Alaska, starting at 5:30 p.m. AKDT and concluding no later than 7:30 p.m. AKDT. The webinar will take place on May 22, 2024, starting at 10 a.m. AKDT and concluding no later than 12 p.m. AKDT.

ADDRESSES:

• May 15, 2024: Kenai, Alaska

○ Quality Inn—Conference room

○ 10352 Kenai Spur Highway

• May 16, 2024: Homer, Alaska

○ Best Western Bidarka Inn—Upstairs conference room

○ 575 Sterling Highway

• May 22, 2024: Webinar

○ Cook Inlet Public Webinar

○ Wednesday, May 22 · 10:00 a.m.-12:00 p.m.

○ Time zone: America/Anchorage

○ Google Meet joining info

○ Video call link: https://meet.google.com/qbp-wpqo-mkw

○ Or dial: (US) +1 929-324-9506 PIN: 148 365 993#

FOR FURTHER INFORMATION CONTACT: Amy Hadfield, 907-586-7376.

SUPPLEMENTARY INFORMATION: Public meetings will be held in Kenai, Homer and via webinar to discuss the permitting, recordkeeping and reporting requirements for commercial drift gillnet salmon fishing in the federally managed Cook Inlet drift EEZ salmon fishery.

In response to a 2016 decision of the Ninth Circuit of Appeals and the 2022 summary judgment opinion of the U.S. District Court for the District of Alaska in United Cook Inlet Drift Association v. NMFS, beginning in 2024 NMFS is establishing Federal management over all salmon fishing in the EEZ waters of upper Cook Inlet, consistent with all Magnuson-Stevens Fishery Conservation and Management Act requirements. Because NMFS has not previously managed salmon fishing in the Cook Inlet EEZ, NMFS is conducting public meetings to explain the regulatory requirements for fishermen, processors and fish transporter participants and answer questions pertaining to these requirements.

Staff will provide information and the public will have the opportunity to ask questions. The schedule is as follows:

• Wednesday, May 15, 2024, in-person at 5:30 p.m., located at the following address: Kenai Quality Inn, 10352 Kenai Spur Highway, Kenai, Alaska.

• Thursday, May 16, 2024, in-person at 5:30 p.m., located at the following address: Best Western Bidarka Inn, 575 Sterling Highway, Homer, Alaska.

• Wednesday May 22, 2024, virtual webinar at 10 a.m., located at the following address: https://meet.google.com/qbp-wpqo-mkw. Registration is not required.

Special Accommodations

Requests for sign language interpretation or other auxiliary aids should be directed to Amy Hadfield, 907-586-7376, at least 5 working days prior to the meeting date.

Dated: April 25, 2024.
Everett Wayne Baxter,
Acting Director, Office of Sustainable Fisheries, National Marine Fisheries Service.

[FR Doc. 2024-09298 Filed 4-29-24; 8:45 am]

BILLING CODE 3510-22-P